DEPARTMENT OF TRANSPORTATION

Maritime Administration

[Docket No. MARAD-2022-0035]

Agency Request for Approval of a New Information Collection: Mariner Survey Pre-Test

AGENCY: Maritime Administration, Department of Transportation.

ACTION: Notice and request for comments.

SUMMARY: In compliance with the Paperwork Reduction Act of 1995, this notice announces that the Information Collection Request (ICR) abstracted below is being forwarded to the Office of Management and Budget (OMB) for review and approval. A Federal Register Notice with a 60-day comment period soliciting comments on the following information collection was published on September 14, 2021. Only one supportive comment was received.

DATES: Comments must be submitted on or before February 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: You may contact Matthew Mueller, Maritime Administration, at (202) 366-7173 or by electronic mail at matthew.mueller@dot.gov. You may send mail to Matthew Mueller at Office of Maritime Labor and Training, Maritime Administration, U.S. Department of Transportation, 1200 New Jersey Avenue SE, Washington, DC, 20590.

SUPPLEMENTARY INFORMATION: Title: Mariner Survey Pre-Test.

OMB Control Number: 2133-NEW.

Type of Request: New information collection request.

Abstract: The Maritime Administration intends to conduct a Pre-Test for a survey of individuals who hold appropriate merchant mariner credentials issued by the U.S. Coast Guard. This voluntary Mariner Survey Pre-Test information collection is limited to cognitive interviews and a pilot survey of a sample of credentialed U.S. merchant mariners to validate and improve the design of a questionnaire and other components for a subsequent full Mariner Survey. Cognitive interviews will be conducted either online or over telephone; pilot survey responses will be primarily conducted online, with a mail survey option.

Upon completion of this Pre-Test collection and analysis, MARAD intends to request separate approval for the full biennial Mariner Survey of all appropriately credentialed U.S. merchant mariners to determine the number of qualified mariners who are available and willing to serve on short notice on U.S. government-owned sealift ships or commercial ships during a period of national need. The most recent survey of this scope was completed in 2002. The availability of a reliable, current estimate on the number of mariners willing to serve in times of war, armed conflict, or national emergency is critical to the U.S. national security.

Respondents: Individuals who hold appropriate merchant mariner credentials issued by the U.S. Coast Guard.

Affected Public: Individuals or Households.

Total Estimated Number of Respondents: 690 (40 cognitive interviews; 650 pilot survey respondents).

Frequency of Collection: One-time.

Estimated Times per Respondent: 45 minutes for cognitive interviews; 20 minutes for pilot survey.

Total Estimated Number of Annual Burden Hours: 247.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

(Authority: The Paperwork Reduction Act of 1995; 44 U.S.C. chapter 35, as amended; and 49 CFR 1.93)

* * * * *

By Order of the Acting Maritime Administrator.
T. Mitchell Hudson, Jr.,
Secretary, Maritime Administration.

[FR Doc. 2022-01513 Filed 1-25-22; 8:45 am]

BILLING CODE 4910-81-P